DEPARTMENT OF ENERGY

Federal Energy Regulatory Commission

Combined Notice of Filings #1

Take notice that the commission received the following accounting Request filings:

Docket Numbers: AC25-95-000.

Applicants: Entergy Services, LLC, Entergy Texas, Inc.

Description: Petition of Entergy Services, LLC, on behalf of Entergy Texas, Inc. for Limited Waiver of Account 593, Maintenance of Overhead Lines (Major Only) of FERC's Uniform Systems of Accounts etc.

Filed Date: 5/13/25.

Accession Number: 20250513-5097.

Comment Date: 5 p.m. ET 6/3/25.

Take notice that the Commission received the following exempt wholesale generator filings:

Docket Numbers: EG25-321-000.

Applicants: Sebree Solar II, LLC.

Description: Sebree Solar II, LLC submits Notice of Self-Certification of Exempt Wholesale Generator Status.

Filed Date: 5/13/25.

Accession Number: 20250513-5088.

Comment Date: 5 p.m. ET 6/3/25.

Docket Numbers: EG25-322-000.

Applicants: Hubbard Wind II, LLC.

Description: Hubbard Wind II, LLC submits Notice of Self-Certification of Exempt Wholesale Generator Status.

Filed Date: 5/13/25.

Accession Number: 20250513-5089.

Comment Date: 5 p.m. ET 6/3/25.

Docket Numbers: EG25-323-000.

Applicants: Wilmot Energy Center II, LLC.

Description: Wilmot Energy Center II, LLC submits Notice of Self-Certification of Exempt Wholesale Generator Status.

Filed Date: 5/13/25.

Accession Number: 20250513-5091.

Comment Date: 5 p.m. ET 6/3/25.

Take notice that the Commission received the following Complaints and Compliance filings in EL Dockets:

Docket Numbers: EL25-80-000.

Applicants: Midcontinent Independent System Operator, Inc.

Description: Petition for Declaratory Order of Midcontinent Independent System Operator, Inc.

Filed Date: 5/7/25.

Accession Number: 20250507-5187.

Comment Date: 5 p.m. ET 6/6/25.

Take notice that the Commission received the following electric rate filings:

Docket Numbers: ER10-1556-011.

Applicants: Longview Power, LLC.

Description: Notice of Change in Status of Longview Power, LLC.

Filed Date: 5/13/25.

Accession Number: 20250513-5045.

Comment Date: 5 p.m. ET 6/3/25.

Docket Numbers: ER11-3576-018; ER11-3401-017.

Applicants: Golden Spread Panhandle Wind Ranch, LLC, Golden Spread Electric Cooperative, Inc.

Description: Supplement to 12/31/2024, Triennial Market Power Analysis for Southwest Power Pool Inc. Region of Golden Spread Electric Cooperative, Inc., et al.

Filed Date: 5/2/25.

Accession Number: 20250502-5233.

Comment Date: 5 p.m. ET 5/23/25.

Docket Numbers: ER25-1834-001.

Applicants: Basin Electric Power Cooperative, Southwest Power Pool, Inc.

Description: Tariff Amendment: Basin Electric Power Cooperative submits tariff filing per 35.17(b): Basin Electric Power Cooperative Amendment to Formula Rate Revisions Filing to be effective 1/1/2025.

Filed Date: 5/13/25.

Accession Number: 20250513-5070.

Comment Date: 5 p.m. ET 6/3/25.

Docket Numbers: ER25-1846-001.

Applicants: Midcontinent Independent System Operator, Inc., Entergy Mississippi, LLC.

Description: Tariff Amendment: Entergy Mississippi, LLC submits tariff filing per 35.17(b): 2025-05-13_Amendment to EML Revisions to Related to PBOP to be effective 6/1/2025.

Filed Date: 5/13/25.

Accession Number: 20250513-5050.

Comment Date: 5 p.m. ET 6/3/25.

Docket Numbers: ER25-2204-000.

Applicants: PJM Interconnection, L.L.C.

Description: § 205(d) Rate Filing: GIA, SA No. 7661; AF1-147/AG1-221; Cancellation of ISA, SA No. 6213; AF1-147 to be effective 4/11/2025.

Filed Date: 5/12/25.

Accession Number: 20250512-5163.

Comment Date: 5 p.m. ET 6/2/25.

Docket Numbers: ER25-2205-000.

Applicants: AE-ESS Holyoke, LLC.

Description: § 205(d) Rate Filing: Application For Market Based Rate to be effective 7/11/2025.

Filed Date: 5/12/25.

Accession Number: 20250512-5174.

Comment Date: 5 p.m. ET 6/2/25.

Docket Numbers: ER25-2206-000.

Applicants: PJM Interconnection, L.L.C.

Description: § 205(d) Rate Filing: Original GIA, Service Agreement No. 7668; AF1-162 to be effective 4/10/2025.

Filed Date: 5/12/25.

Accession Number: 20250512-5177.

Comment Date: 5 p.m. ET 6/2/25.

Docket Numbers: ER25-2207-000.

Applicants: Southwest Power Pool, Inc.

Description: Notice of Cancellation of Generator Interconnection Agreement of Southwest Power Pool, Inc.

Filed Date: 5/13/25.

Accession Number: 20250513-5042.

Comment Date: 5 p.m. ET 6/3/25.

Docket Numbers: ER25-2208-000.

Applicants: American Transmission Systems, Incorporated.

Description: § 205(d) Rate Filing: ATSI submits Revised Interconnection Agreement, Service Agreement No. 3992 to be effective 7/13/2025.

Filed Date: 5/13/25.

Accession Number: 20250513-5060.

Comment Date: 5 p.m. ET 6/3/25.

Docket Numbers: ER25-2209-000.

Applicants: AEP Texas Inc.

Description: § 205(d) Rate Filing: AEPTX-West Texas Solar Project II 4th Amended Generation Interconnection Agr. to be effective 4/29/2025.

Filed Date: 5/13/25.

Accession Number: 20250513-5064.

Comment Date: 5 p.m. ET 6/3/25.

Docket Numbers: ER25-2210-000.

Applicants: Delta Bobcat Solar, LLC.

Description: § 205(d) Rate Filing: Application for Market-Based Rate Authorization to be effective 7/13/2025.

Filed Date: 5/13/25.

Accession Number: 20250513-5129.

Comment Date: 5 p.m. ET 6/3/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: May 13, 2025.
Carlos D. Clay,
Deputy Secretary.

[FR Doc. 2025-08882 Filed 5-16-25; 8:45 am]

BILLING CODE 6717-01-P